DEPARTMENT OF COMMERCE

Foreign-Trade Zones Board

[B-51-2015]

Foreign-Trade Zone 225—Springfield, Missouri; Application for Expansion (New Magnet Site) Under Alternative Site Framework

An application has been submitted to the Foreign-Trade Zones (FTZ) Board (the Board) by the City of Springfield Airport Board, grantee of Foreign-Trade Zone 225, requesting authority to expand its zone under the alternative site framework (ASF) adopted by the Board (15 CFR Sec. 400.2(c)) to include a new magnet site in Neosho, Missouri. The application was submitted pursuant to the Foreign-Trade Zones Act, as amended (19 U.S.C. 81a-81u), and the regulations of the Board (15 CFR part 400). It was formally docketed on August 10, 2015.

FTZ 225 was established by the Board on August 1, 1997 (Board Order 911, 62 FR 43143, 8/12/1997) and reorganized and expanded under the alternative site framework on September 30, 2011 (Board Order 1782, 76 FR 63285, 10/12/2011). The zone currently has a service area that includes the Counties of Barry, Barton, Cedar, Christian, Dade, Dallas, Douglas, Greene, Hickory, Howell (partial), Jasper, Laclede, Lawrence, McDonald, Newton, Ozark, Polk, Stone, Taney, Texas (partial), Vernon, Webster and Wright. The zone consists of the following sites: Site 1 (2,363 acres)—Springfield-Branson National Airport Complex, five miles northwest of downtown, Springfield; Site 2 (88.77 acres, sunset 9/30/2017)—Jarden Consumer Solutions, 303 Nelson Avenue, Neosho; and, Site 3 (55 acres, sunset 5/31/2016)—General Dynamics Ordnance and Tactical Systems, 4174 County Road 180, Carthage.

The applicant is now requesting authority to expand its zone to include an additional magnet site: Proposed Site 4 (297.97 acres)—Neosho Industrial Park located in Neosho (Newton County). The application indicates that the proposed site is adjacent to the Springfield Customs and Border Protection port of entry.

In accordance with the Board's regulations, Camille Evans of the FTZ Staff is designated examiner to evaluate and analyze the facts and information presented in the application and case record and to report findings and recommendations to the Board.

Public comment is invited from interested parties. Submissions shall be addressed to the Board's Executive Secretary at the address below. The closing period for their receipt is October 13, 2015. Rebuttal comments in response to material submitted during the foregoing period may be submitted during the subsequent 15-day period to October 28, 2015.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: August 10, 2015.
Andrew McGilvray,
Executive Secretary.

[FR Doc. 2015-20094 Filed 8-13-15; 8:45 am]

BILLING CODE 3510-DS-P